DEPARTMENT OF ENERGY

Federal Energy Regulatory Commission

[Project No. 2232-698]

Duke Energy Carolinas, LLC; Notice of Application Accepted for Filing, Soliciting Comments, Motions To Intervene, and Protests

Take notice that the following hydroelectric application has been filed with the Commission and is available for public inspection:

a. Application Type: Non-Project Use of Project Lands.

b. Project No.: 2232-698.

c. Date Filed: November 13, 2017.

d. Applicant: Duke Energy Carolinas, LLC (licensee).

e. Name of Project: Catawba-Wateree Hydroelectric Project.

f. Location: The affected project land is located on the Catawba River in Burke County, North Carolina.

g. Filed Pursuant to: Federal Power Act, 16 U.S.C. 791(a)-825(r).

h. Applicant Contact: Dennis Whitaker, Manager, Lake Services North, 526 South Church Street, ECQ12, Charlotte, North Carolina 28202; telephone: (704) 382-1594.

i. FERC Contact: Alicia Burtner; telephone: (202) 502-8038; email address: alicia.burtner@ferc.gov.

j. Deadline for filing comments, motions to intervene and protests is 30 days from the issuance date of this notice by the Commission. The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2232-698. Comments emailed to Commission staff are not considered part of the Commission record.

k. Description of Request: The licensee filed a request for approval for a non-project use of project lands and waters, to lease approximately 18.715 acres of the project area in Burke County, North Carolina to Carolina Sand, Inc. for the purpose of hydraulic sand mining activities. While not currently in operation, this location has been maintained for dredging by previous contractors for over 75 years. The proposed sand mining would employ hydraulic dredge and barge operations to remove an estimated average of 33,000 tons of sediment from the river bed each year. The sediment would be transported via pipeline to a 29-acre processing and stockpiling area, and the excess water would be treated to remove sediment and turbidity and then returned to the Catawba River.

l. Locations of the Application: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title PROTEST, MOTION TO INTERVENE, or COMMENTS; (2) set forth in the heading the name of the applicant and the project number of the application to which the filing responds; (3) furnish the name, address, and telephone number of the person protesting or intervening; and (4) otherwise comply with the requirements of 18 CFR 385.2001 through 385.2005. All comments, motions to intervene or protests must set forth their evidentiary basis and otherwise comply with the requirements of 18 CFR 4.24(b). All comments, motions to intervene, or protests should relate to project works which are subject of the non-project use application. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: December 13, 2017.
Kimberly D. Bose,
Secretary.

[FR Doc. 2017-27331 Filed 12-19-17; 8:45 am]

BILLING CODE 6717-01-P